DEPARTMENT OF HEALTH AND HUMAN SERVICES

National Institutes of Health

Office of Research on Women's Health; Notice of Meeting; Moving Into the Future—New Dimensions and Strategies for Women's Health Research for the National Institutes of Health

Notice is hereby given that the Office of Research on Women's Health (ORWH), Office of the Director, National Institutes of Health, Department of Health and Human Services, in collaboration with the Center for Women's Infectious Disease Research, Washington University School of Medicine, will convene a public hearing and scientific workshop on March 4-6, 2009, at Washington University, Edward P. Newman Education Center, St. Louis, Missouri.

Purpose of the Meeting

With rapid advances in science and wider global understanding of women's health and sex/gender contributions to well-being and disease, the purpose of the meeting is to ensure that NIH continues to support cutting edge women's health research that is based upon the most advanced techniques and methodologies. The conference format will promote an interactive discussion involving leading scientists, advocacy groups, public policy experts, health care providers, and the general public. The St. Louis conference is the first in a series that will be convened throughout the Nation to assist the ORWH and the NIH to move into the next decade of women's health research.

As science and technology advance and fields such as computational biology demonstrate the power of interdisciplinary research, it remains critical for sex and gender factors to be integrated into broad experimental methodologies and scientific approaches, such as genomics and the Human Microbiome Project, to maximize the value of these comprehensive and powerful approaches. Biomedical and behavioral research are also necessary to understand how cultural, ethnic, and racial differences influence the cause, diagnosis, progression, treatment, and outcome of disease among different populations, including women of diverse geographic locations and socioeconomic backgrounds. Furthermore, health disparities among diverse populations of women remain a critical area in need of continued focus and attention.

The ORWH challenges all conference attendees to assist it and the NIH in defining the women's health research agenda of the future and to think beyond traditional women's health issues. The attendees need to identify creative strategies that are best poised for advancement, address innovative ways to approach persistent issues of health and disease, and explore new scientific concepts and investigative approaches. The attendees need to pay attention to new areas of science application, new technologies, or continuing basic science investigations. The attendees should also consider clinical questions that are not currently the focus of research priorities to ensure that women's health research is optimally served and that the ORWH can continue to provide leadership for the benefit of women's health, nationally and internationally.

Conference Format

The Conference will consist of public testimony followed by scientific panels and six concurrent workshops. Specifically, on March 4, individuals representing the full spectrum of organizations interested in biomedical and behavioral research on women's health issues will have an opportunity to provide public testimony from 2-6 p.m. On March 5, the intersection of health care, public policy, and biomedical research will be addressed in a keynote speech designed to stimulate discussion by subsequent panels. The panels will focus on emerging issues and trends in health care that will be facing the Nation and on research paradigms of the future. The six concurrent afternoon sessions will focus on a range of research areas, including metagenomics/microbiome, chronic pain, urogenital disorders, the brain and neuropsychiatric disorders, urogenital infection, and obesity and eating disorders. On March 6, the morning session will be devoted to reports from the workshop co-chairs on the deliberations of the workshops.

Throughout the sessions, conference attendees will be encouraged to assist the ORWH and NIH in shaping the future of women's health research and, by extension, informing health care policy. The conference will adjourn at 1 p.m. on March 6.

Public Testimony

The ORWH invites individuals representing organizations with an interest in research areas related to women's health to provide written and oral testimony on these topics and/or on issues related to women in biomedical careers. Due to time constraints, only one representative from an organization or professional specialty group will present oral testimony, with presentations limited to 5-7 minutes. Similarly, individuals not representing an organized entity but a personal point of view will have the same time constraint. A letter of intent to present such testimony should be sent electronically to http://www.orwhmeetings.com/newdirections/ or by mail to Ms. Jory Barone, Educational Services, Inc., 4350 East-West Highway, Suite 1100, Bethesda, MD 20814, joryb@esi-dc.com. The date of receipt of the communication will establish the order of presentations at the March meeting.

Testimony should include a brief description of the organization; is limited to no more than 10 pages, double spaced, 12 point font size; and should be forwarded to the Web site listed above no later than February 20, 2009.

Individuals and organizations wishing to provide written statements only should send two (2) copies of their statements, electronically or by mail, to the above Web site or address by February 20, 2009. All written testimony will be made available to the conferees prior to the March 4 meeting date. Logistics questions related to the March conference should be addressed to Ms. Jory Barone at ESI, while program-specific questions should be addressed to Dr. Jennifer Stine Elam at Washington University, 314-747-0729, elam@wustl.edu.

This conference is the first of four regional public hearings and scientific workshops of similar design to be convened by the ORWH. At the conclusion of the regional conferences, the ORWH will hold a meeting at the NIH to develop a summation of the deliberations from the regional conferences. The resulting report to the ORWH and the NIH will ensure that women's health research will incorporate vigorous new ideas and approaches in the next decade.

Dated: February 3, 2009.
Raynard S. Kington,
Acting Director, National Institutes of Health.

[FR Doc. E9-2760 Filed 2-9-09; 8:45 am]

BILLING CODE 4140-01-P